DEPARTMENT OF HEALTH AND HUMAN SERVICES

Administration for Children and Families

[CFDA: 93.592]

Announcing the Intent To Award a Single-Source Expansion Supplement Grant to the National Domestic Violence Hotline

AGENCY: Family and Youth Services Bureau, ACYF, ACF, HHS.

ACTION: This notice announces the intent to award a single-source expansion supplement grant under the Family Violence Prevention and Services Act (FVPSA) national domestic violence hotline grant program to the National Domestic Violence Hotline (Hotline) in Austin, TX.

SUMMARY: The Administration for Children and Families (ACF), Administration on Children, Youth and Families (ACYF), Family and Youth Services Bureau (FYSB), Division of Family Violence and Prevention Services (DFVPS) announces its intent to award a cooperative agreement of up to $3,750,000 as a single-source expansion supplement to the National Domestic Violence Hotline (Hotline) in Austin, TX.

DATES: The period of support for the single-source expansion supplement is September 30, 2016 through September 29, 2017.

FOR FURTHER INFORMATION CONTACT: Angela Yannelli, Senior Program Specialist, Family Violence Prevention and Services Program, 330 C Street SW., 3rd Floor, Suite 3621B, Washington, DC 20201. Telephone: 202-401-5524; Email: Angela.Yannelli@acf.hhs.gov.

SUPPLEMENTARY INFORMATION: The Hotline in Austin, TX, is funded under the Family Violence Protection and Services Act (FVPSA) program to operate the 24-hour, national, toll-free telephone hotline that provides information and assistance to adult and youth victims of family violence, domestic violence, or dating violence, and to the family and household members of such victims, and to persons affected by the victimization. The supplemental award will expand the capacity of the Hotline's current efforts by focusing on the development of a tribal hotline and by providing additional phone advocates to ensure that the Hotline can answer all contacts. The award will also assist in developing the “Love Is Respect” Web site (http://www.loveisrespect.org) into a complete resource for teens and youth seeking to prevent and end abusive relationships.

Statutory Authority: The statutory authority for the award is section 313 of the Family Violence Prevention and Services Act (42 U.S.C. 10413) as amended by section 201 of the CAPTA Reauthorization Act of 2010 (Pub. L. 111-320).

Christopher Beach,
Senior Grants Policy Specialist, Division of Grants Policy, Office of Administration, Administration for Children and Families.

[FR Doc. 2016-09925 Filed 4-27-16; 8:45 am]

BILLING CODE 4184-32-P